DEPARTMENT OF TRANSPORTATION

Federal Aviation Administration

Solicitation of Nominations for Appointment to the Drone Advisory Committee (DAC)

AGENCY: Federal Aviation Administration (FAA), U.S. Department of Transportation (DOT).

ACTION: Solicitation of nominations for appointment to the DAC.

SUMMARY: The FAA is issuing this notice to solicit nominations for qualified candidates to serve on the DAC. This notice seeks to fill vacancies on the DAC and does not affect the status of current DAC members. The DAC is an advisory committee established under DOT's authority, in accordance with the provisions of the Federal Advisory Committee Act (FACA) as amended. The objective of the DAC is to provide independent advice and recommendations to the FAA and to respond to specific taskings received directly from the FAA. The advice, recommendations, and taskings relate to improving the efficiency and safety of integrating Unmanned Aircraft Systems (UAS) into the National Airspace System. In response to FAA requests, the DAC may provide the FAA with information that may be used for tactical and strategic planning purposes.

DATES: Nomination materials to submit (see below) must be received no later than 6:00 a.m. Eastern Time on January 9, 2019.

ADDRESSES: All nominations shall be emailed to Chris Harm, the FAA's UAS Stakeholder and Committee Liaison, at chris.harm@faa.gov (subject line “2019 DAC Nomination”). A return email confirmation will be sent upon receipt.

FOR FURTHER INFORMATION CONTACT: For questions about this process or general questions about the DAC, please visit https://www.faa.gov/uas/programs_partnerships/dac/ or contact Chris Harm at chris.harm@faa.gov or 202-267-5401.

SUPPLEMENTARY INFORMATION: Pursuant to the FACA (Pub. L. 92-463, 5 U.S.C., App. 2), notice is hereby given of the solicitation of nominations for appointment to the DAC.

Description of Duties: The DAC acts solely in an advisory capacity and does not exercise program management responsibilities. Decisions directly affecting implementation of transportation policy will remain with the FAA Administrator and the Secretary of Transportation. The DAC:

a. Undertakes only tasks assigned by the FAA.

b. Deliberates on and approves recommendations for assigned tasks in meetings that are open to the public.

c. Responds to ad hoc informational requests from the FAA and/or provides input to the FAA on the overall DAC structure (including structure of the subcommittees and or task groups).

Members of the DAC will be engaged in the above-referenced activities.

Membership: The FAA will submit recommendations for membership to the Secretary of Transportation, who will appoint members to the DAC. The membership is fairly balanced in terms of points of view represented and the functions performed. All DAC members serve at the pleasure of the Secretary of Transportation. Other membership criteria include:

a. The DAC will have no more than 35 members.

b. Members will serve for an appointment of up to two years.

c. Members will serve without charge and without government compensation. The employing organization bears all costs related to its participation. Members must represent a particular interest of employment, education, experience, or affiliation with a specific aviation related organization.

d. Members must attend all DAC meetings (estimated three meetings per year).

Qualifications: Candidates must be in good public standing and currently serve as a member of their organization's core senior leadership team with the ability to make UAS-related decisions. In rare circumstances, membership will be granted to uniquely qualified individuals who do not meet this latter requirement.

Materials to Submit: Candidates are required to submit, in full, the following materials to be considered for DAC membership. Failure to submit the required information may disqualify a candidate from the review process.

a. A short biography of nominee, including professional and academic credentials.

b. A résumé or curriculum vitae, which must include relevant job experience, qualifications, as well as contact information.

c. Up to three letters of recommendation may be submitted, but are not required. Each letter may be no longer than one page.

d. A one-page statement describing how the candidate will benefit the DAC, taking into account current membership and the candidate's unique perspective that will advance the conversation. This statement must also identify a primary and secondary interest to which the candidate's expertise best aligns. The stakeholder groups represented on the DAC include the following:

i. Airports and Airport Communities

ii. Labor (controllers, pilots)

iii. Local Government

iv. Navigation, Communication, Surveillance, and Air Traffic Management Capability Providers

v. Research, Development, and Academia

vi. Traditional Manned Aviation Operators

vii. UAS Hardware Component Manufacturers

viii. UAS Manufacturers

ix. UAS Operators

x. UAS Software Application Manufacturers

xi. Other

Finally, candidates should state their previous experience on a Federal Advisory Committee and/or Aviation Rulemaking Committee (if any), their level of knowledge in their above stakeholder groups, and the size of their constituency they represent or are able to reach.

Evaluations will be based on the materials submitted by the prospective candidates and will include consideration for membership balancing to ensure each of the above stakeholder groups has adequate representation.

Issued in Washington, DC on December 14, 2018.
Christopher W. Harm,
UAS Stakeholder and Committee Liaison, AUS-10, UAS Integration Office, FAA.

[FR Doc. 2018-27507 Filed 12-19-18; 8:45 am]

BILLING CODE 4910-13-P